DEPARTMENT OF TRANSPORTATION

Maritime Administration

[Docket No. MARAD 2007 0014]

Information Collection Available for Public Comments and Recommendations

ACTION: Notice and request for comments.

SUMMARY: In accordance with the Paperwork Reduction Act of 1995, this notice announces the Maritime Administration's (MARAD's) intention to request extension of approval for three years of a currently approved information collection.

DATES: Comments should be submitted on or before January 28, 2008.

FOR FURTHER INFORMATION CONTACT: Rita Jackson, Maritime Administration, 1200 New Jersey Avenue, SE., Washington, DC 20590. Telephone: (202) 366-0284; or E-Mail: Rita.Jackson@dot.gov. Copies of this collection can also be obtained from that office.

SUPPLEMENTARY INFORMATION: Title of Collection: Request for Waiver of Service Obligation, Request for Deferment of Service Obligation and Application for Review.

Type of Request: Extension of currently approved information collection.

OMB Control Number: 2133-00510.

Form Numbers: MA-935, MA-936, MA-937.

Expiration Date of Approval: Three years from date of approval by the Office of Management and Budget.

Summary of Collection of Information: This information collection is essential for determining if a student or graduate of the United States Merchant Marine Academy (USMMA) or subsidized student or graduate of a State maritime academy has a waive able situation preventing them from fulfilling the requirements of a service obligation contract signed at the time of their enrollment in a Federal maritime training program. It also permits the Maritime Administration (MARAD) to determine if a graduate, who wishes to defer the service obligation to attend graduate school, is eligible to receive a deferment. Their service obligation is required by law.

Need and Use of the Information: This information collected establishes overall compliance with the service obligation contract in support of the Economic Growth and Trade and National Security goals identified in the DOT Strategic Plan. Because the graduates are required to serve as commissioned officers in the U.S. Merchant Marine Reserve, U.S. Naval Reserve (as an aspect of the service obligation), they become the Navy's single largest source of naval reserve officers except for Naval R.O.T.C. In their civilian capacities, they are required first to sail on their professional merchant marine licenses or work in the maritime industry ashore. This dual role makes the graduates especially valuable because national defense planning initiatives and the Nation's economic needs depend on available personnel who are highly trained.

Description of Respondents: U.S. Merchant Marine Academy students and graduates, and subsidized students and graduates.

Annual Responses: 21.

Annual Burden: 4.2 hours.

Comments: Comments should be referred to the docket number that appears at the top of this document. Written comments may be submitted to the Docket Clerk, U.S. DOT Dockets, Room W12-140, 1200 New Jersey Avenue, SE., Washington, DC 20590. Comments also may be submitted by electronic means via the Internet at http://www.regulations.gov. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal holidays. An electronic version of this document is available on the World Wide Web at http://www.regulations.gov.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.regulations.gov.

Authority: 49 CFR 1.66.

By order of the Maritime Administrator.
Dated: November 20, 2007.
Christine S. Gurland,
Acting Secretary, Maritime Administration.

[FR Doc. E7-23152 Filed 11-28-07; 8:45 am]

BILLING CODE 4910-81-P